DEPARTMENT OF COMMERCE

International Trade Administration

Manufacturing and Services' Sustainable Manufacturing Initiative; Update

ACTION: Notice of first round of regional showcase tours in support of Commerce's Sustainable Manufacturing Initiative; request for suggestions of other cities and regions to be considered for future tours.

SUMMARY: The International Trade Administration's Manufacturing & Services Unit is planning a new project as part of its Sustainable Manufacturing Initiative, to be known as “SMART,” which through a series of regional tours across the United States will showcase sustainable manufacturing practices. SMART (“Sustainable Manufacturing's American Regional Tours”) will travel to a number of cities and regions in order to demonstrate the feasibility and viability of sustainable manufacturing practices for U.S. firms.

DATES: Submit comments no later than 30 days after the date of this notice.

ADDRESSES: Address all comments concerning this notice to Sustainable Manufacturing's American Regional Tours, U.S. Department of Commerce, Room 2213, 1401 Constitution Ave., NW., Washington, DC 20230 (or via the Internet at susmanuf@mail.doc.gov).

FOR FURTHER INFORMATION CONTACT: Morgan Barr in Manufacturing & Services' Office of Trade Policy Analysis, 202-482-3703.

SUPPLEMENTARY INFORMATION: Sustainable manufacturing practices in the United States have become increasingly popular in recent years as companies look for new ways to make more efficient use of resources, ensure compliance with domestic and international regulations related to environment and health, enhance the marketability of their products and services, and last but not least, increase profitability. As the trend towards sustainable manufacturing practices grows, so do its implications for U.S. global competitiveness and firm profitability.

At the Department of Commerce, one of our main goals is to foster domestic and international conditions for doing business that allow U.S. firms to successfully compete as globalization evolves. Evidence has shown that firms incorporating both environmentally and economically sustainable manufacturing processes can gain competitive advantages by achieving inherent cost savings (i.e., improving their energy efficiency, minimizing raw materials usage, etc.) while at the same time reaping societal benefits for being good stewards of the environment. Many U.S. firms have demonstrated that being environmentally sustainable can also mean being more profitable.

In order to provide effective and continued support to U.S. companies in their sustainable manufacturing efforts, Commerce's Manufacturing and Services (MAS) unit has launched a Sustainable Manufacturing Initiative and public-private dialogue that aims to (a) identify U.S. industry's most pressing sustainable manufacturing challenges and (b) facilitate public and private sector efforts to address these challenges.

To help maintain and enhance forward momentum on this initiative, MAS is introducing its SMART project, which implements one of the four “next steps” identified by the Initiative's participants at MAS's September 2007 conference and enumerated in the April 2008 Federal Register notice (Vol. 73, No. 76/Friday, April 18, 2008): leading regional showcase tours to promote sustainable manufacturing.

Numerous U.S. companies have voiced concerns over the lack of visibility that sustainable manufacturing receives nationwide and the lack of information U.S. manufacturers possess in this field. In order to continue spreading awareness of sustainable manufacturing's benefits, both to U.S. global competitiveness and the environment, MAS will hold the first round of SMART cities and regions: St. Louis, MO (July 28, 2008), Grand Rapids, MI (September 3, 2008), and Rochester, NY (September 23, 2008).

SMART city events will most likely include tours of local manufacturing facilities that showcase those firms that are incorporating sustainable manufacturing techniques into their production processes or have facilities that are otherwise sustainable. The goal of these tours is to demonstrate to other similarly situated firms in the area that incorporating sustainable manufacturing techniques into the production cycle is not cost-prohibitive and, in fact, can help the long-term economic viability of American manufacturers.

Manufacturing and Services seeks public input on possible cities and/or regions that would benefit from hosting a SMART event or firms that would be willing to demonstrate and showcase their sustainable manufacturing capabilities and practices as part of a possible SMART event in their region (SMART participants will not be paid and funding is considered on a case-by-case basis).

Dated: July 14, 2008.
Matthew Howard,
Office of Trade Policy Analysis.

[FR Doc. E8-16524 Filed 7-18-08; 8:45 am]

BILLING CODE 3510-DR-P